SECURITIES AND EXCHANGE COMMISSION

Sunshine Act Meetings

Notice is hereby given, pursuant to the provisions of the Government in the Sunshine Act, Pub. L. 94-409, that the Securities and Exchange Commission will hold the following meetings during the week of October 1, 2001: closed meetings will be held on Tuesday, October 2, 2001 at 10:30 a.m. and Thursday, October 4, 2001, at 10:00 a.m. and an open meeting will be held on Wednesday, October 3, 2001, in Room 1C30, the William O. Douglas Room, at 10 a.m.

Commissioners, Counsel to the Commissioners, the Secretary to the Commission, and recording secretaries will attend the closed meeting. Certain staff members who have an interest in the matters may also be present.

The General Counsel of the Commission, or his designee, has certified that, in his opinion, one or more of the exemptions set forth in 5 U.S.C. 552b(c)(5), (7), (9)(A), (9)(B), and (10) and 17 CFR 200.402(a)(5), (7), 9(i), 9(ii) and (10), permit consideration of the scheduled matters at the closed meeting.

The subject matters of the closed meeting scheduled for Tuesday, October 2, 2001 and Thursday, October 4, 2001, will be:

Institution and settlement of injunctive actions; and

Institution and settlement of administrative proceedings of an enforcement nature.

The subject matters of the open meeting scheduled for Wednesday, October 3, 2001, will be:

1. The Commission will consider a recommendation to adopt final amendments to its broker-dealer books and records rules, Rule 17a-3 and Rule 17a-4 under the Securities Exchange Act of 1934. The amendments to Rule 17a-3 would clarify and expand recordkeeping requirements with respect to purchase and sale documents, customer records, associated person records, customer complaints, and certain other matters. The amendments to Rule 17a-4 would expand the types of records that broker-dealers must maintain and require broker-dealers to maintain or promptly produce certain records at each office to which those records relate. These amendments are designed to assist securities regulators, particularly state securities regulators, when conducting sales practice examinations of broker-dealers. These amendments were originally proposed on October 22, 1996 (see Exchange Act Release No. 37850, 61 FR 55593 (Oct. 28, 1996)), and were reproposed on October 2, 1998 (see Exchange Act Release No. 40518, 63 FR 54404 (Oct. 9, 1998)).

For further information, please contact Michael Macchiaroli, Associate Director, Division of Market Regulation at (202) 942-0132, Thomas McGowan, Assistant Director, Division of Market Regulation at (202) 942-4886, or Bonnie Gauch, Attorney, Division of Market Regulation at (202) 942-0765.

2. The Commission will consider a recommendation to propose amendments to Rule 17f-4 under the Investment Company Act of 1940, the rule that governs investment companies' use of securities depositories. The proposed amendments would permit additional types of organizations to operate as depositories under the rule, allow depositories to perform additional functions, and expand the types of investment companies that can rely on the rule.

For further information, please contact Hugh P. Lutz, Attorney, Division of Investment Management, at (202) 942-0690.

3. The Commission will consider approving proposed amendments to its debt collection rules to conform to the Debt Collection Act, as amended, and the Federal Claims Collection Standards, as amended; the rule amendments would facilitate offset of unpaid debts against amounts owed by the government to the debtor, and permit administrative garnishment of non-federal wages.

For further information contact, please contact Kenneth H. Hall, Division of Enforcement at (202) 942-4635.

At times, changes in Commission priorities require alterations in the scheduling of meeting items. For further information and to ascertain what, if any, matters have been added, deleted or postponed, please contact:

The Office of the Secretary at (202) 942-7070.

Dated: September 25, 2001.
Jonathan G. Katz,
Secretary.

[FR Doc. 01-24452 Filed 9-26-01; 10:21 am]

BILLING CODE 8010-01-M